DEPARTMENT OF TRANSPORTATION

Research and Special Programs Administration

Actions on Exemption Applications

AGENCY: Research and Special Programs Administration, DOT.

ACTION: Notice of actions on exemption applications.

SUMMARY: In accordance with the procedures governing the application for, and the processing of, exemptions from the Department of Transportation's Hazardous Materials Regulations (49 CFR Part 107, Subpart B), notice is hereby given of the actions on exemption applications in SEPTEMBER-DECEMBER 2000. The modes of transportation involved are identified by a number in the “Nature of Application” portion of the table below as follows: 1—Motor vehicle, 2—Rail freight, 3—Cargo vessel, 4—Cargo aircraft only, 5—Passenger-carrying aircraft. Application numbers prefixed by the letters EE represent applications for Emergency Exemptions. It should be noted that some of the sections cited were those in effect at the time certain exemptions were issued.

Issued in Washington, DC, on December 21, 2001.
J. Suzanne Hedgepeth,
Director, Office of Hazardous Materials, Exemptions and Approvals.

Application No. | Exemption No. | Applicant | Regulation(s) affected | Nature of exemption thereof
MODIFICATION EXEMPTIONS
3187-M | DOT-E 3187 | PPG Industries, Inc., Pittsburgh, PA | 49 CFR 173.21(f), 173.225(b)(6), 173.225(b)(7), 173.225(d)(2) | To authorize alternative packaging and the use of common carriers in exclusive use for the transportation of Division 5.2 materials.
8299-M | DOT-E 8299 | Pacific Scientific, Duarte, CA | 49 CFR 173.304(a)(1), 175.3, 178.44 | To modify the exemption to increase the service life limit to 24 years of the non-DOT specification pressure vessels for the transportation of certain Division 2.2 compressed gases.
8757-M | DOT-E 8757 | YZ Systems, Inc., Conroe, TX | 49 CFR 173.302(a)(1), 173.304(a)(1), 173.302(b)(1), 175.3, 178.42 | To modify the exemption to allow for the transportation of additional Division 2.3 and Class 3 materials in non-DOT specification stainless steel cylinders; editorial corrections to paragraph 6 of the exemption.
9149-M | DOT-E 9149 | Ethyl Corporation, Richmond, VA | 49 CFR 173.354, 174.63(b), 178.245 | To modify the exemption to authorize the transportation of Class 3 and additional division 6.1 materials in non-DOT specification IMD Type I portable tanks.
9847-M | DOT-E 9847 | FIBA Technologies, Inc., Westboro, MA | 49 CFR 173.302(c)(2), (3), (4), 173.34(e), Part 107, Subpart B, Appendix B | To modify the exemption to eliminate the requirement for an initial qualifying test; to allow for Division 2.3 materials; correct language in paragraphs 7a. thru e. of the exemption.
10921-M | DOT-E 10921 | The Procter & Gamble Company, Cincinnati, OH | 49 CFR Parts 100-199 | To modify the exemption to authorize shipments of solutions containing ethyl alcohol in inner packagings not exceeding 50 ounces each and that the total contents of the package not exceed 300 fluid ounces.
10977-M | DOT-E 10977 | Federal Industries Corporation, Plymouth, MN | 49 CFR 172.400, 172.402(a)(2), 172.504(a), 173.25(a), 173.3, 175.3, Table 1 | To modify the exemption to include polypropylene blankets as a cushioning and absorbent, and a fibre tube to protect the closure for limited quantities of hazardous materials required to be labeled poison, KEEP AWAY FROM FOOD, flammable liquid, flammable solid, corrosive, oxidizer or DANGEROUS WHEN WET.
10985-M | DOT-E 10985 | Georgia-Pacific Corporation, Atlanta, GA | 49 CFR 174.67(i), (j) | To modify the exemption to authorize the transportation of Class 8 materials in tank cars which remain standing with unloading connections attached when no product is being transferred.
11379-M | DOT-E 11379 | TRW Automotive Occupant Restraint Systems, Washington, MI | 49 CFR 173.301(h), 173.302 | To modify the exemption to authorize a design change of the pressure vessel to increase the maximum fill pressure to 7,500 psi charged with non-toxic, non-liquefied gases, or mixtures thereof.
11506-M | DOT-E 11506 | OEA Inc., Denver, CO | 49 CFR 173.301(h), 173.302 | To modify the exemption to authorize a design change using a welded flange and laser etching on the exterior of non-DOT specification pressure vessels for use as components of automobile vehicle safety systems.
11967-M | DOT-E 11967 | Savage Industries Incorporated, Pottstown, PA | 49 CFR 174.67(i), (j) | To modify the exemption to allow for the transportation of additional Class 3, Class 8 and Division 5.1 materials in tank cars to remain connected during unloading.
12056-M | DOT-E 12056 | U.S. Department of Defense (MTMC), Falls Church, VA | 49 CFR 173.226, 173.336 | To modify the exemption to eliminate the private carrier provision and provide for an additional movement location for the transportation of Dinitrogen tetroxide, liquefied and Division 6.1 materials in propellant tanks designed to a military specification.
12065-M | DOT-E 12065 | International Flavors & Fragrances, Inc., Union Beach, NJ | 49 CFR 173.120(c)(ii) | To modify the exemption to waive the weight limit requirements for flammable liquids determined by a specially designed flashpoint device.
12494-M | DOT-E 12494 | American Reclamation Group, LLC, Anchorage, AK | 49 CFR 172.101 (col. 9) | To reissue the exemption originally issued on an emergency basis for the transportation of certain Division 5.1 materials by cargo aircraft only when aircraft is the only means of reaching destination.
12499-M | DOT-E 12499 | M & M Service Company, Carlinville, IL | 49 CFR 173.315(k)(6) | To reissue the exemption originally issued on an emergency basis for the transportation of liquefied petroleum gas in a non-DOT specification cargo tank.
12504-M | DOT-E 12504 | Radian International Research Triangle Park, NC | 49 CFR 177.834(1)(2)(i) | To reissue the exemption originally issued on an emergency basis authorizing the use of temperature controlled equipment for the transportation of Class 3 and Division 2.1 materials.
12509-M | DOT-E 12509 | Department of Defense (MTMC) Alexandria, VA | 49 CFR 172.101 col 10A | To reissue the exemption originally issued on an emergency basis authorizing certain Division 4.2 materials to be stowed as palletized cargo in an under-deck forecastle location.
12540-M | DOT-E 12540 | Air Products and Chemicals, Inc., Allentown, PA | 49 CFR 178.245 | To reissue the exemption originally issued on an emergency basis authorizing the transportation of hydrogen fluoride, anhydrous in DOT Specification 51 portable tanks which do not have the relieving capacity requirements.
NEW EXEMPTIONS
12148-N | DOT-E 12148 | Eastman Kodak Company, Rochester, NY | 49 CFR 172.320, 173.3, 173.52, 173.54, 173.60, 174.3, 175.3, 177.801 | To authorize the transportation in commerce of not more than 25 grams of explosives and pyrotechnic material in a specially designed container (modes 1, 3, 4).
12155-N | DOT-E 12155 | S&C Electric Co | 49 CFR 172.301(c), 173.304 | To authorize the transportation in commerce of specially designed non-DOT specification packaging containing compressed sulfur hexafluoride, Division, 2.2 (modes 1, 2, 3, 4).
12277-N | DOT-E 12277 | The Indian Sugar & General Engineering Corp., ISGE Haryana, TX | 49 CFR 173.3, 173.304 | To authorize the manufacture, marking and sale of non-DOT specification cylinders (pressure vessel) for use in transporting Chlorine, Division 2.3 material (modes 1, 2).
12332-N | DOT-E 12332 | Automotive Occupant Restraints Council, Lexington, KY | 49 CFR 173.166(c) & (e) | To authorize the transportation in commerce of air bag modules or seat belt pre-tensioners that have been removed from motor vehicles for disposal to be transported without required markings (mode 1).
12351-N | DOT-E 12351 | Nalco/Exxon Energy Chemicals, L.P., Freeport, TX | 49 CFR 177.834 (i)(3) | To authorize an electronic monitoring system without the physical presence of an unloader within 25 feet of cargo tanks during loading operations (mode 1).
12391-N | DOT-E 12391 | Airgas Mgmt., Inc., Cheyenne, WY | 49 CFR 172.203(a), 173.34(e)(16), 173.34(e)(16)(i)(A)) | To authorize the transportation in commerce of certain Division 2.1 and 2.2 gases in DOT Specification 3A or 3AA cylinders manufactured on or before December 31, 1945, and which have been retested at least every 10 years (modes 1, 2, 3, 4, 5).
12392-N | DOT-E 12392 | Consani Engineering, Elsies River, SA | 49 CFR 178.245 | To authorize the transportation in commerce of non-DOT specification steel portable tanks permanently fixed within ISO frames, which are similar to DOT 51 portable tanks for use in transporting all hazardous materials presently authorized (modes 1, 2, 3).
12397-N | DOT-E 12397 | Astaris, LLC (formerly FMC Corp.), Philadelphia, PA | 49 CFR 172.203(a), 180.509(1)(2) | To authorize the use of an alternative requalification method for certain DOT specification 111A100W6 tank cars used to transport Class 8 hazardous materials (mode 2).
12401-N | DOT-E 12401 | DG Supplies, Inc., Hamilton, NJ | 49 CFR 172.400, 172.402, 172.504, 173.150-154, 173.201-203, 173.211-213, 173.25, 175.3 | To authorize the manufacture, marking and sale of specially-designed combination packaging for use in transporting liquid and solid hazardous materials with relief from labeling and placarding requirements (modes 1, 2, 4, 5).
12405-N | DOT-E 12405 | Air Products and Chemicals, Inc., Allentown, PA | 49 CFR 173.304(a)(2), 173.304(b) | To authorize an increase in filling density to the cylinder test pressure for the transportation of Division 2.1, 2.2 and 2.3 hazardous materials (modes 1, 3, 4, 5).
12413-N | DOT-E 12413 | CP Industries, Inc., McKeesport, PA | 49 CFR 17.34(e)(3), 173.302(c)(2); 173.302(c)(3);, 173.302(c)(4);, 173.302(c)(5), 173.34(e), 173.34(e)(1)(i)&(ii), 173.34(e)(4), 173.34(e)(5), 173.34(e)(6), 173.34(e)(7) | To authorize acoustic emission and ultrasonic retest to DOT-3AA, 3AAX or 3T cylinders for use in transporting presently authorized hazardous materials (modes 1, 2, 3, 4).
12427-N | DOT-E 12427 | Chubb Fire Ltd., England | 49 CFR 173.301(j) | To authorize the transportation in commerce of non-DOT specification cylinders for use in transporting non-flammable compressed gas, Division 2.2, to UL facility for testing (mode 4).
12457-N | DOT-E 12457 | Arch Chemicals, Inc., Norwalk, CN | 49 CFR 172.101(i)(3) Col. 8C | To authorize the transportation in commerce of dry calcium hypochlorite mixture, Division 5.1, in DOT specification flexible intermediate bulk containers (mode 1).
12468-N | DOT-E 12468 | Connecticut Yankee Atomic Power Co., East Hampton, CT | 49 CFR 173.403, 173.427(a)(1), 173.427(b) or (c) | To authorize the transportation in commerce of a reactor vessel containing low-level radioactive waste, Class 7 (modes 1, 2).
12474-N | DOT-E 12474 | Department of Defense (DOD), Falls Church, VA | 49 CFR 171.12, 172.204, 173.301(i) & (j) | To authorize the transportation in commerce of two types of non-DOT specification compressed gas cylinders containing Division 2.2 materials (mode 1).
12481-N | DOT-E 12481 | Trac Regulator Co., Inc., Mt. Vernon, NY | 49 CFR 173.306 | To authorize the transportation in commerce of an actuator and valve assembly for use in transporting various classes of hazardous materials (modes 1, 2).
12491-N | DOT-E 12491 | PPG Industries, Inc., Pittsburgh, PA | 49 CFR 171.12(b)(5), SP T17 | To authorize the transportation in commerce of dichlorophenyl isocyanate, Division 6.1 in IM 101 portable tanks (modes 1, 3).
12521-N | DOT-E 12521 | Airgas Inc., Madison, CT | 49 CFR 173.301(j) | To authorize the transportation in commerce of non-DOT specification cylinders manufactured in the U.S. for export with valving and relief device requirements of the country that the cylinders will be exported to for use in transporting various compressed gases (mode 1).
12526-N | DOT-E 12526 | Aeronex, Inc, San Diego, IL | 49 CFR 173.212, 173.213 | To authorize the manufacture, marking and sale of non-DOT specification cylinders for use in transporting Division 4.1 and 4.2 hazardous materials (modes 1, 2, 3, 4).
12533-N | DOT-E 12533 | Adams Healthcare Ltd., Garforth, Leeds, EN | 49 CFR 173.306(a)(3)(v) | To authorize alternative testing criteria for aerosol containers meeting DOT specification 2Q for use in transporting Division 2.1 material (modes 1, 3).
12534-N | DOT-E 12534 | MODcol Corp., Sunnyvale, CA | 49 CFR 173.302, 178.602-178.606 | To authorize the manufacture, marking, sale and use of a composite package containing limited quantities of Class 3 material with fiberboard or plywood overpack (modes 1, 2, 3, 4).
12537-N | DOT-E 12537 | Noranda-Dupont LLC, Wilmington, DE | 49 CFR 172.203(a), 180.509(1)(2) | To authorize an alternative retest criteria for DOT specification 111A100W tank cars used in sulfuric acid service (mode 1).
12539-N | DOT-E 12539 | Edlow International Company Washington, DC | 49 CFR 173.420(a)(2)(i) | To authorize the one-time transportation of 19 model 30B cylinders, which deviate from the ANSI 14.1 standards, containing uranium hexafluoride, Class 7 (modes 1, 3).
12540-N | DOT-E 12540 | Air Products & Chemicals, Inc., Allentown, PA | 49 CFR 178.245 | To authorize the transportation in commerce of DOT 51 similar to a multi-unit tank car tank equipped with pressure relief devices for use in transporting hydrogen fluoride, anhydrous, Class 8 (modes 1, 2).
12541-N | DOT-E 12541 | Rotonics Manufacturing, Inc., Gardena, CA | 49 CFR 172.101 Col 8b and 8C, 173.197 | To authorize the manufacture, marking, sale and use of a 200 gallon, high density polyethylene, rotationally molded roll on/roll off container as an outer packaging for use in transporting regulated medical waste, Division 6.2 (mode 1).
12542-N | DOT-E 12542 | United States Enrichment Corporation (USEC), Bethesda, MD | 49 CFR 173.420(a)(2)(i) | To authorize the transportation in commerce of one model 48X cylinder, which deviated from the ANSI 14.1 standards, containing uranium hexafloride, Class 7 (modes 1, 2).
12561-N | DOT-E 12561 | Rhodia Inc., Cranbury, NJ | 49 CFR 172.203(a), 173.31, 179.23 | To authorize the transportation in commerce of DOT Specification 111S100W-2 tank cars that exceed the maximum gross weight limit for use in transporting Class 8 material (mode 2).
12585-N | DOT-E 12585 | JCI Jones Chemicals, Barerton, OH | 49 CFR 173.24(b) | Request for an emergency exemption to transport a leaking ton cylinder that has been fitted with an emergency B kit to prevent leaking during transportation (mode 1).
EMERGENCY EXEMPTIONS
EE 11836-M | DOT-E 11836 | Pioneer Chemical, Inc. (NACD) Member), Mesquite, TX | 49 CFR 173.203, 173.24 | To authorize additional specification packagings (mode 1).
EE 12395-M | DOT-E 12395 | Pennzoil Quaker State Co., Houston, TX | 49 CFR 173.306 | Emergency request for modification and extension of the expiration date (mode 1).
EE 12494-N | DOT-E 12494 | American Reclamation Group LLC, Anchorage, AK | 49 CFR 172.101 (col. 9) | Request for an emergency exemption to transport certain material by air, which is forbidden to the HMR (mode 4).
EE 12501-M | DOT-E 12501 | Northland Services, Inc., Seattle, WA | 49 CFR 178.245-4(e) | Request for extension of the expiration date to permit a one-time transportation of portable tanks (mode 3).
EE 12504-N | DOT-E 12504 | Carrier Corp., Research Triangle Park, NC | 49 CFR 177.834(1)(2)(i) | Request for an emergency exemption to use cargo hearters when transporting flammable liquids or flammable gases (mode 1).
EE 12506-N | DOT-E 12506 | The Boeing Company, Huntington Beach, CA | 49 CFR 172.101 | Request for an emergency exemption to transport fire extinguishers by commercial aircraft (modes 4, 5).
EE 12523-N | DOT-E 12523 | US Department of Defense, Alexandria, VA | 49 CFR 173.212 | Request for emergency exemption to transport a certain material in a non-spec. package (mode 1).
EE 12540-M | DOT-E 12540 | Air Products and Chemicals, Allentown, PA | 49 CFR 178.245 | Requesting amendment of the relief device capacity specified in the exemptions (modes 1, 2).
EE 12545-N | DOT-E 12545 | Pacific Northwest Equipment, Inc., Seattle, WA | 49 CFR not given | Request for an emergency exemption for a one-time exemption to ship 21 IM-102 tanks containing blasting agent by barge from Alaska Marine lines terminal in Seattle WA to the State of Alabama (mode 3).
EE 12546-N | DOT-E 12546 | Allied Universal Corp., Miami, FL | 49 CFR 173/24 | Request for an emergency exemption to transport a leaking ton cylinder that has been fitted with a “B” kit to prevent leakage during transportation (mode 1).
EE 12553-M | DOT-E 12553 | DPC Industries, Inc., Houston, TX | 49 CFR 173.34(d) | Request for an emergency exemption to transport a leaking cylinder that has been fitted with an emergency A kit to prevent leakage during transportation (mode 1).
EE 12555-N | DOT-E 12555 | Airgas Intermountain, Colorado Springs, CO | 49 CFR 173.34 | Request for an emergency exemption to transport a leaking cylinder that has been fitted with an emergency A Kit (mode 1).
EE 12556-N | DOT-E 12556 | Florida Gas Transportation Company, Tallahassee, FL | 49 CFR 172.101 | To authorize emergency transportation in commerce of natural gas in MC-331 cargo tanks (mode 1).
EE 12558-N | DOT-E 12558 | JCI Jones Chemicals, Inc., Barberton, OH | 49 CFR 173.34 | Authorize the shipment of a leaking ton tank container that has been fitted with an emergency B kit to prevent leakage (mode 1).
EE 12559-N | DOT-E 12559 | Cook Inlet Pipe Line Co., Anchorage, AK | 49 CFR 1, 172.101 | Request for an emergency exemption to exceed the quantity limitations for materials transported by cargo aircraft (mode 4).
EE 12560-N | DOT-E 12560 | Phillips Alaska, Inc., Alaska, AK | 49 CFR 172.101 col. 9(b) | Request for an emergency exemption to transport hazmat by cargo air that exceed quantity limitations (mode 4).
EE 12565-N | DOT-E 12565 | Allied Universal Corp. Miami, FL | 49 CFR 173.24 | Request for an emergency exemption to transport a leaking container that has been fitted with an emergency B kit to prevent leakage during transportation (mode 1).
EE 12569-N | DOT-E 12569 | Alaska Pacific Powder Company, Olympia, WA | 49 CFR 175.320(a) | Request for an emergency exemption to ship high explosives by air (mode 4).
EE 12570-N | DOT-E 12570 | JCI Jones Chemicals, Torrance, CA | 49 CFR 173.34(d) | Request for an emergency exemption to transport a leaking ton container that has been fitted with an emergency A kit to prevent leakage during transportation (mode 1).
EE 12575-N | DOT-E 12575 | Carrib Supply of St. Croix, Inc., Christiansted, VI | 49 CFR 173.318 | Request for an emergency exemption to use portable tanks that meet the design criteria for an MC 338 but are not classified as cargo tanks. These portable tanks would be used to transport liquid oxygen (mode 1).
EE 12577-N | DOT-E 12577 | JCI Jones Chemicals, Inc., Merrimack, NH | 49 CFR 173.24(b) etc | Request for an emergency exemption to transport a leaking tank car fitted with a B kit (mode 1).
EE 12578-N | DOT-E 12578 | Allied Universal Corp., Miami, FL | 49 CFR 173.24(b) | Emergency exemption for the one-time transportation of a leaking ton cylinder that has been fitted with an emergency A chemical kit to prevent leakage during transportation (mode 1).
EE 12579-N | DOT-E 12579 | Alexander Chemical Corp., LaPorte, IN | 49 CFR 173.24(b) | Emergency exemption for a leaking cylinder with an A kit to prevent leakage (mode 1).
EE 12580-N | DOT-E 12580 | Matheson-Tri-Gas East Rutherford, NJ | 49 CFR 173.301(j) | Request for an emergency exemption to use a cylinder that is not authorized in the HMR for tungsten hexafluoride (mode 1).
EE 12581-N | DOT-E 12581 | Ball Aerospace & Technologies Corp., Boulder, CO | 49 CFR 173 | Request for an emergency exemption to ship helium in a non-DOT specification packaging (mode 1).
EE 12582-N | DOT-E 12582 | Michigan State Police, East Lansing, MI | 49 CFR 173.25, 175.85 | Request for an emergency exemption to authorize the transportation of first aid/trauma kits containing 2.2 gas in a passenger carrying aircraft (mode 4).
EE 12583-N | DOT-E 12583 | Alexander Chemical Corp., LaPorte, IN | 49 CFR 173.24(b) | Request for an emergency exemption for a one-time transportation of a leaking ton cylinder that has been fitted with a B kit to prevent leakage during transportation. The cylinder contains Chlorine (mode 1).
EE 12584-N | DOT-E 12584 | JCI Jones Chemicals, Inc., Jacksonville, FL | 49 CFR 173.24(b) | Request for an emergency exemption to transport a leaking ton cylinder that has been fitted with an A kit to prevent leakage during transportation (mode 1).
EE 12595-N | DOT-E 12595 | Marsulex, Inc., Toledo, OH | 49 CFR 172.540 | Request for an emergency exemption to authorize the transportation in commerce of sulfur dioxide in a tank car using international placards for 2.3 material (mode 2).
EE 12596-N | DOT-E 12596 | Hci Worth Chemical Co., Chatanooga, TN | 49 CFR 173.24(b) | Request for emergency exemption to transport a leaking ton cylinder that has been fitted with an emergency B kit to prevent leakage (mode 1).
EE 12597-N | DOT-E 12597 | Firestone Tire and Rubber Company, Savannah, GA | 49 CFR 178.245-4(e) | Request for an emergency exemption to transport anhydrous ammonia in certain DOT spec. 51 portable tanks (modes 1, 3).
EE 12598-N | DOT-E 12598 | Lawrence Berkeley National Laboratory Berkely, CA | 49 CFR 173.150(b) | Request for an emergency exemption to permit packaging that are not authorized for a class 3, pkg. III material (mode 1).
EE 12601-N | DOT-E 12601 | Great Lakes Chemical Corp., Indianapolis, IN | 49 CFR 172.301(c), 173.24(e), 173.226(c) | Request for emergency exemption to authorize the one-time transportation in commerce of a 6.1 material in plastic bottles that have not passed certain performance tests required by the HMR (mode 1).
EE 12602-N | DOT-E 12602 | Allied Universal Corp., Maimi, FL | 49 CFR 173.24(b) | Request for an emergency exemption to transport a leaking ton container fitted with an emergency B kit (mode 1).
EE 12603-N | DOT-E 12603 | JCI Jones Chemical Milford, VA | 49 CFR 173.24(b) | Request for an emergency exemption to transport a leaking ton container fitted with an emergency B kit to prevent leakage during transportation (mode 1).
EE 12604-N | DOT-E 12604 | Allied Universal Miami, FL | 49 CFR 173.23(b) | Request for an emergency exemption for a tank car fitted with a B kit (mode 1).

Denials
8556-M | Request by Gardner Cryogenics Lehigh Valley, PA to modify the exemption to provide for design changes of the non-DOT specification portable tank manufactured in accordance with ASME Code criteria; add a new 4830 gallon liquid helium tank design denied November 17, 2000.
9232-X | Request by U.S. Department of Defense Alexandria, VA to authorize the shipment of explosives and other hazardous materials forbidden or in quantities greater than those prescribed by commercial air carriers activated under the Civil Reserve Air Fleet during a contingency airlift or national emergency denied November 22, 2000.
9323-X | Request by U.S. Department of Defense Falls Church, VA to authorize the shipment only by the U.S. Department of Defense of gasoline and JP-4 and JP-5 fuel, Class 3 liquids, in non-DOT specification collapsible, fabric reinforced rubber drums of 500-gallon capacity denied November 22, 2000.
10880-X | Request by St. Lawrence Explosives Corp. Adams Center, NY to authorize the use of reusable, flexible Intermediate Bulk Container (IBC) type 12H3 or 13H4 conforming to Subpart N and O of Part 178 with replaced liners having a capacity not over 1000kg (2206 pounds) and top and bottom outlets, for shipment of ammonium nitrate-fuel oil mixture ANFO denied October 20, 2000.
10880-X | Request by St. Lawrence Explosives Corporation Adams Center, NY to authorize the use of reusable, flexible Intermediate Bulk Container (IBC) type 12H3 or 13H4 conforming to Subpart N and O of Part 178 with replaced liners having a capacity not over 1000kg (2206 pounds) and top and bottom outlets, for shipment of ammonium nitrate-fuel oil mixture ANFO denied October 20, 2000.
12343-N | Request by City Machine & Welding, Inc. of Amarillo, Amarillo, TX to authorize acoustic emission retesting of DOT-3AAX and 3T cylinders for use in transporting various hazardous materials classed in Division 2.1, 2.2 and 2.3 denied November 29, 2000.
12525-N | Request by ICO Worldwide, Inc. Houston, TX to authorize the transportation in commerce of a specially designed device (mobile pipe inspection unit pulled by a tractor) containing radioactive material, Type A, transported with obscured markings denied November 22, 2000.

[FR Doc. 01-32016 Filed 12-27-01; 8:45 am]

BILLING CODE 4909-60-M